DEPARTMENT OF DEFENSE

Department of the Air Force

HQ USAF Scientific Advisory Board

AGENCY: Department of the Air Force, DoD.

ACTION: Notice of meeting.

SUMMARY: Pursuant to Pub. L. 92-463, notice is hereby given of the forthcoming outbrief on Technology for Machine-to-Machine ISR Integration. The purpose of the meeting is to allow the SAB leadership to advise AF/XOS an outbrief of the study. This meeting will be closed to the public.

DATES: November 19, 2003.

ADDRESSES: Pentagon (AF/XOS), Room 4C1000, Washington DC 20330.

FOR FURTHER INFORMATION CONTACT: Paul Hazell, Air Force Scientific Advisory Board Secretariat, 1180 Air Force Pentagon, Rm 5D982, Washington, DC 20330-1180, (703) 697-4811.

Pamela D. Fitzgerald,
Air Force Federal Register Liaison Officer.

[FR Doc. 03-28956 Filed 11-19-03; 8:45 am]

BILLING CODE 5001-05-P